DEPARTMENT OF TRANSPORTATION

Federal Aviation Administration

[Summary Notice No. PE-2017-48]

Petition for Exemption; Summary of Petition Received; General Electric Company

AGENCY: Federal Aviation Administration (FAA), Department of Transportation (DOT)

ACTION: Notice of petition for exemption received.

SUMMARY: This notice contains a summary of a petition seeking relief from specified requirements of Title 14, Code of Federal Regulations. The purpose of this notice is to improve the public's awareness of, and participation in, this aspect of the FAA's exemption process. Neither publication of this notice nor the inclusion or omission of information in the summary is intended to affect the legal status of the petition or its final disposition.

DATES: Comments on this petition must identify the petition docket number and must be received on or before August 8, 2017.

ADDRESSES: You may send comments identified by docket number FAA-2017-0471 using any of the following methods:

• Federal eRulemaking Portal: Go to http://www.regulations.gov and follow the online instructions for sending your comments electronically.

• Mail: Send comments to the Docket Management Facility; U.S. Department of Transportation, 1200 New Jersey Avenue, SE., W12-140, West Building Ground Floor, Washington, DC 20590-0001.

• Hand Delivery or Courier: Take comments to Docket Operations in Room W12-140 of the West Building Ground Floor at 1200 New Jersey Avenue, SE., Washington, DC 20590-0001, between 9 a.m. and 5 p.m., Monday through Friday, except Federal holidays.

• Fax: Fax comments to Docket Operations at 202-493-2251.

Privacy: In accordance with 5 U.S.C. 553(c), DOT solicits comments from the public to better inform its rulemaking process. DOT posts these comments, without edit, including any personal information the commenter provides, to http://www.regulations.gov, as described in the system of records notice (DOT/ALL-14 FDMS), which can be reviewed at http://www.dot.gov/privacy.

Docket: Background documents or comments received may be read at http://www.regulations.gov at any time. Follow the online instructions for accessing the docket or go to the Docket Operations in Room W12-140 of the West Building Ground Floor at 1200 New Jersey Avenue SE., Washington, DC 20590-0001, between 9 a.m. and 5 p.m., Monday through Friday, except Federal holidays.

FOR FURTHER INFORMATION CONTACT: Mark Bouyer, Federal Aviation Administration, Engine and Propeller Directorate, Standards Staff, ANE-110, 1200 District Avenue, Burlington, Massachusetts 01803-5229; (781) 238-7755; facsimile: (781) 238-7199; email: Mark.Bouyer@faa.gov.

This notice is published pursuant to 14 CFR 11.85.

Issued in Burlington, Massachusetts, on July 6, 2017.
Carlos A. Pestana,
Acting Assistant Manager, Engine and Propeller Directorate, Aircraft Certification Service.

Petition for Exemption

Docket No.: FAA-2017-0471.

Petitioner: General Electric Company.

Section of 14 CFR Affected: Section 33.27(c).

Description of Relief Sought: The General Electric Company (a.k.a. GE) seeks relief from the requirements of § 33.27(c) for a complete loss of load occurrence on the stage 2 high pressure turbine (HPT) rotor overspeed conditions caused by a failure within a portion (axial segments) of the HPT aft shafting for certain GE9X engine models.

[FR Doc. 2017-15158 Filed 7-18-17; 8:45 am]

BILLING CODE 4910-13-P